DEPARTMENT OF AGRICULTURE

Forest Service

Information Collection; Request for Comments; Volunteer Application for Natural Resource Agencies

AGENCY: Forest Service, USDA.

ACTION: Notice.

SUMMARY: In accordance with the Paperwork Reduction Act of 1995, the Forest Service announces its intention to reinstate a previously approved information collection. The collected information will help the Forest Service match the skills of individuals, who are applying for volunteer work on National Forest System lands, with work that can be accomplished by volunteers. Information will be collected from potential volunteers of all ages. Those under age 18 must have written consent from their parent or guardian.

DATES: Comments must be received in writing on or before April 25, 2000.

ADDRESSES: All comments should be addressed to Director, Senior, Youth and Volunteer Programs Staff, (Mail Stop 1136), Forest Service, USDA, P.O. Box 96090, Washington, D.C. 20090-6090.

FOR FURTHER INFORMATION CONTACT: Donald T. Hansen, Program Manager, Senior, Youth and Volunteer Programs Staff, at (703) 605-4851.

SUPPLEMENTARY INFORMATION:

Background

The Volunteer Act of 1972, as amended, authorizes the Forest Service to recruit and train volunteer workers to accomplish certain work, such as building and maintaining trails, constructing campground facilities, improving wildlife habitat, assisting with interpretive services, assisting visitors, or other activities to help the agency meet its mission. Volunteers can be any age, as long as they are capable of doing the work for which they volunteer.

Persons interested in volunteering will have to write or call the Forest Service volunteer coordinator and request a copy of the form, the Volunteer Application for Natural Resource Agencies. Forest Service personnel developed this form for multi-agency use in cooperation with the Bureau of Land Management, Fish and Wildlife Service, the National Park Service, the Department of the Army-Corps of Engineers, and the Tennessee Valley Authority. Multi-agency use of the Volunteer Application for Natural Resource Agencies form will enhance cooperation between agencies. Information gleaned from the form will support the efforts to develop a multi-agency computer-assisted volunteer database referral system, which will enable agencies to tap into the vast resource of volunteers. Currently, each agency maintains its own volunteer resource database.

Description of Information Collection

The following describes the information collection to be reinstated:

Title: Volunteer Application for Natural Resource Agencies.

OMB Number: 0596-0080.

Expiration Date of Approval: January 31, 1998.

Type of Request: Reinstatement, without change, of a previously approved information collection for which approval has expired.

Abstract: Forest Service employees will evaluate the collected information to match the skills of volunteers with the work the agency needs to accomplish.

Individuals interested in volunteering will have to write or call the agency volunteer and request a copy of the form, Volunteer Application for Natural Resource Agencies. The volunteer then will have to complete the form and return it to the agency volunteer coordinator, either in person or by mail.

Potential volunteers will be asked to respond to questions that include their telephone number, their age, the work categories in which they are most interested in volunteering, their past work experience, their educational background, the specific kind of volunteer work they would like to do, if they have volunteered before, if they would be interested in supervising others, any physical limitations that may limit the kind of volunteer work they can do, their reason for volunteering, the months they would be available to volunteer, if they require lodging, and if a volunteer assignment is not available for them, would they like to have their application forwarded to other agencies. The potential volunteer then returns the form to the agency in person or by mail.

The agency volunteer coordinator, along with other agency personnel, will evaluate the completed form to determine if the person's skills and physical condition match agency volunteer opportunities.

Data gathered in this information collection are not available from other sources.

Estimate of Annual Burden: 15 minutes.

Type of Respondents: Individuals.

Estimated Annual Number of Respondents: 58,100.

Estimated Annual Number of Responses per Respondent: 1.

Estimated Total Annual Burden on Respondents: 14,525 hours.

Comment is Invited

The agency invites comments on the following: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: February 18, 2000.
Clyde Thompson,
Deputy Chief for Business Operations.

[FR Doc. 00-4436 Filed 2-24-00; 8:45 am]

BILLING CODE 3410-11-P